DEPARTMENT OF AGRICULTURE

Farm Service Agency

[Docket ID: FSA-2025-0001]

Information Collection Request; Agricultural Foreign Investment Disclosure Act

AGENCY: Farm Service Agency and Farm Production and Conservation Business Center, Department of Agriculture (USDA).

ACTION: Notice; request for comments.

SUMMARY: In accordance with the Paperwork Reduction Act requirement, the Farm Service Agency (FSA) is requesting comments from all interested individuals and organizations on a revision of a currently approved information collection request associated with the Agricultural Foreign Investment Disclosure Act of 1978 (AFIDA). This revised form is the basis for the development of a streamlined process for electronic submission and retention of AFIDA disclosures, which is required by the Consolidated Appropriations Act, 2023. Foreign persons, as defined by AFIDA, who are making amendments to existing filings, or filing land or leasehold dispositions, will continue to use the existing form as those filings are on paper.

DATES: We will consider comments that we receive by July 29, 2025.

ADDRESSES: We invite you to submit comments on the notice. You may submit comments, identified by Docket ID: FSA-2025-0001, in the Federal eRulemaking Portal: http://www.regulations.gov. Follow the online instructions for submitting comments. All comments will be posted without change and will be publicly available on www.regulations.gov. The new, revised AFIDA form is available to view in Regulations.gov under Docket ID: FSA-2025-0001 as a supporting document.

FOR FURTHER INFORMATION CONTACT: Mary Estep; telephone (202) 720-3217; or email mary.estep@usda.gov. Individuals who require alternative means for communication should contact the USDA TARGET Center at (202) 720-2600 (voice and text telephone or dial 711 for Telecommunications Relay Service (both voice and text telephone users can initiate this call from any telephone)). The revised AFIDA form is available to view at Regulations.gov to provide comments.

SUPPLEMENTARY INFORMATION:

Title: Agricultural Foreign Investment Disclosure Act Report.

OMB Control Number: 0560-0097.

Expiration Date: August 2025.

Form Number FSA-153.

Type of Request: Revision.

Abstract: As stated in AFIDA and outlined in regulation 7 CFR part 781, foreign persons who hold, acquire, or dispose of any interest in United States agricultural land are required to disclose the transactions and holdings to FSA using form FSA-153. The information collected pursuant to AFIDA is used to prepare an annual report to Congress.

FSA is continuing to use the current paper form FSA-153 to collect information from foreign persons, subject to the filing requirements, until a streamlined process for electronic submission and retention of disclosures is fully implemented. This process is being referred to as the “AFIDA online web portal.” The information collected on the revised form FSA-153 will be asked of foreign persons using the AFIDA online web portal when it is implemented. For any changes reported after the initial filing, the same filing method will be used indefinitely; for example, foreign persons who filed their initial information using the paper form will continue to use that paper form to submit required changes to their initial filing.

The purpose of the revision to the form is to provide consistency and precision in the reporting of tiers of ownership and other information, to improve the utility of the form, and to assist with implementing the AFIDA online web portal. When implementation of the revised form and web portal are complete, foreign persons who are required to make an initial filing will be expected to provide the information online. Foreign persons who use the AFIDA online web portal for their initial filing will continue to submit any future changes required to be reported to their filing via the online web portal.

Additional information on the rationale for the revised FSA-153 is provided in the AFIDA Information and Form FSA-153 section below.

For the following estimated total annual burden on respondents, the formula used to calculate the total burden hour is the estimated average time of 0.6724 hours per response multiplied by the estimated total annual responses. FSA is requesting to decrease burden hours by 231 hours and the number of responses by 2,625. With fewer foreign person filers (due to a decline in the number of filers since the peak year of 2020), overall burden hours have decreased—even though the new form takes slightly longer to complete.

Estimate of Respondent Burden: Public reporting burden for the information collection is estimated to average 0.6724 hours per response.

Respondents: Individuals, households, businesses including farming operations, governments, and other organizations.

Estimated Annual Number of Respondents: 5,150.

Estimated Number of Reponses per Respondent: 1.

Estimated Total Annual Responses: 5,150.

Estimated Total Annual Burden on Respondents: 3,463 hours.

We are requesting comments on all aspects of this information collection to help us:

(1) Evaluate whether the collection of information is necessary for the proper performance of the functions of the FSA, including whether the information will have practical utility;

(2) Evaluate the accuracy of FSA's estimate of burden including the validity of the methodology and assumptions used;

(3) Enhance the quality, utility, and clarity of the information to be collected;

(4) Minimize the burden of the collection of information on those who respond, including using appropriate automated, electronic, mechanical, or other technological collection techniques or other forms of information technology.

All comments received in response to this notice, including names and addresses when provided, will be a matter of public record. Comments will be summarized and included in the submission for Office of Management and Budget approval.

AFIDA Information, Form FSA-153, and Web-Based Filing Portal

FSA is requesting comments on the revised form FSA-153 available to view in Regulations.gov under Docket ID FSA-2025-0001 as provided in the ADDRESSES section.

Comments we received on the initial proposed form FSA-153 from the December 18, 2023, Request for Information under Docket ID FSA-2023-0017 (published in the Federal Register and titled “Request for Information on AFIDA FSA-153 Form Modernization and Information Collection Request”) are available for viewing at Regulations.gov. The December 18, 2023, initial proposed form can be found at 88 FR 87385-87393.

FSA revised the form FSA-153 contained in the December 18, 2023, Request for Information in response to comments and to provide consistency in the reporting of tiers of ownership, to improve the utility of the form, and to assist with implementing the AFIDA online web portal.

Section 773 of the Consolidated Appropriations Act mandates that USDA develop a streamlined process for electronic submission and retention of AFIDA disclosures within 3 years. Ensuring that the most useful, precise, consistent, and relevant data are collected has been the first step in creating such an electronic submission and retention system. An AFIDA working group was developed in 2023 to revise and update the FSA-153 form.

The changes in the form fall into three general categories:

• consolidation and reordering certain questions;

• refinement of certain questions; and

• the addition of certain questions.

These changes, plus other changes, are reflected in the revised form:

• Determination of Foreign Person Status—The “foreign person” determination item is at the end of the existing form and has been moved to the beginning, as it is the first step in determining whether a filing needs to occur and the identification of the “ultimate” foreign owners. The obsolete term “Trust Territory of the Pacific” has been removed, and the more encompassing (and accurate) “territory or possession of the United States” term is instead used. In addition, for clarity, the determination of foreign person status for an individual is listed separately from the non-individual (corporation, organization, government, etc.) determination.

• Item 1, “Type of Activity”—The proposed form expands on the abbreviated activity type listing in the existing FSA-153 form. This will greatly assist in determining the exact nature of the filing. For example, if the foreign person is a long-term leaseholder (see the new Item 1(b)), there is no way to indicate that on the existing form other than to mark “other” in “type of interest” (Item 5(f) on the existing form). The proposed form now captures leaseholds (which are a significant share of filings) directly and upfront. In addition, we need to know the nature of any amendments, such as whether the amendment is being made to change the foreign person's representative or to reflect a change in company name. Further, we need to know whether the foreign person has an existing AFIDA filing or is a new foreign person filer (see Item 1(a)). At times, companies will provide a slightly different company name, or file by a project name instead of the umbrella company name that they have previously used, which creates confusion. Lack of precision in the existing form was a major focus of revisions that needed to be done in calendar year 2024, which resulted in a significant delay in the 2022 detailed data posting.

• Item 2, “Type of Agricultural Land Interest”—This item consolidates and captures Items 5 and 6 on the existing form.

• Item 3, “Land Location and Description”—Item 3 on the proposed form consolidates Items 2, 7, and 8 on the existing form and makes additional changes for some filers. We are occasionally asked by national security-related agencies for a geo-spatial context for the location of the land as it is hard for these agencies to identify the location of land relative to nearby towns and other markers without additional information beyond the legal description. As a result, we would require that foreign person filers provide an FSA farm number and FSA tract number to identify the location of the land. Note that all foreign person filers must also provide the legal description of the land, as has always been required. We are also providing the option for the inclusion of a project name or property name, internal to the filing company, which will help facilitate communication in the event of dispositions. We are no longer asking for how much of the value remains to be paid off (which appears in 7(d) in the current form). Such information has not been utilized; thus, there is no reason to continue to collect this information. Foreign person filers will provide either the actual purchase price per acre or the estimated value per acre in the case of a trust, life estate, etc.

• Item 4, “Person Information”—This item contains all the information captured in Item 3 on the current form. The Limited Liability Company (LLC) is added to the list of organization types, as many foreign person filers are LLCs and are marking the “other” box and writing in “LLC” for the item indicating “explain.” The current form asks for the tax ID number in Item 3(b), which is provided by the titleholder or leaseholder currently. We are asking for this information for all foreign persons with an ownership interest through the third tier of ownership, as such information ensures the integrity of the online web portal filings. Foreign person filers may not have a U.S. tax ID number; as a result, we are providing a box that indicates they do not need to provide a U.S. tax ID if they do not already have one.

• Item 5, “Tiers of Ownership”—Currently, foreign person filers have been providing their tiers of ownership (where relevant) in a variety of different formats on paper. For example, some foreign person filers provide a schematic with boxes showing the relationship among entities, and others provide just a listing of entities. The format appearing as Item 5 in the proposed form requests the same information as collected currently—the name, country of incorporation, and percentage interest for each entity, up to and including the third tier of foreign ownership. We will need foreign person filers to provide this information via the online web portal in a standardized manner and will no longer accept different representations of company structures.

• Item 6, “Ultimate (final) foreign ownership”—The last foreign owner(s) in an ownership chain. The ultimate foreign owner(s) can be at any ownership tier of a business. The cumulative ownership share of one or more ultimate foreign owners results in the significant interest or substantial control which causes the Tier 1 business to be a “foreign person.” The chain of ownership may include foreign or non-foreign owners who are not subject to the reporting requirements; however, the ultimate foreign owner is the last level of foreign ownership in the ownership chain which contributes to direct or indirect significant interest or substantial control by one or more foreign persons, regardless of whether such a foreign owner is the last owner in the chain of ownership. Currently, foreign person filers are not asked for this information specifically; rather, they may indicate the “ultimate” foreign interest with a dotted line from the third ownership tier to that “ultimate” or “final” foreign ownership interest on their schematic or listing. Without this question, we can only assume that the foreign interest ownership chain ends at the third tier (if no more information is provided), which may or may not be the case. This information must be captured in the online web portal to provide an accurate annual report to Congress regarding foreign holdings and to answer national security (and other) questions regarding foreign ownership of U.S. agricultural land. The final rule will provide the final definition of ultimate owner.

• Item 7, “Current and intended land use”—This item combines Items 9 and 10 on the existing form. The “current land use” item captured in Item 9 on the current form is identical to the first column in Item 7 on the proposed form. The “intended land use” column in Item 10 on the current form captures only “no change,” “other agriculture,” and “non-agriculture.” On the proposed form, Item 7 now captures the same items as for current use, including “crop,” “forest or timber,” and “pasture or rangeland.” Often, foreign person filers change land use, and we only learn of such change years later. This means that our annual report to Congress is not as accurate as possible. With greater specificity on the form, we will have an indication of planned changes in land use (should the “current” and “intended” land use items differ on the initial filing) and can contact the foreign person filer if we do not receive an amendment noting a land use change.

• Items 8, 9, and 10, “Foreign person's primary relationship to the land,” “use of land by titleholder,” and “role of U.S. and foreign persons”—AFIDA mandates that USDA examine the impacts of foreign land ownership on farms and rural communities and is re-iterated in Sec. 773 of the Consolidated Appropriations Act, 2023. USDA's Economic Research Service has used USDA's National Agricultural Statistics Service data to analyze the impacts of foreign ownership on rental rates and land values. Their work depends on Census of Agriculture data, which is collected every 5 years. However, Congress has previously requested that we provide such analysis every year. Hence, Items 8, 9, and 10 have been added to the form to allow USDA to provide annual updates. Although the new Items 8, 9, and 10 go beyond what is asked in the current form, these questions also include refinements to Items 11 and 12 on the existing form.

• Item 11, “Land Recipient Information”—This information is collected in Item 3(e) on the current form.

• Item 12, “Representative if Different than the Foreign Person”—This information is collected in Item 4 on the current form.

• Item 13, “Certification”—This information is collected in Items 13 and 14 on the current form.

In fiscal year 2024, Congress appropriated $1 million for the development of an online filing portal and a public database. Approximately $500,000 was also transferred from USDA's Office of Homeland Security for web portal development. The contractor was onboarded in the fall of 2024 and work is underway to develop an AFIDA online web portal. The proposed, revised FSA-153 form is being used as the foundation for the web portal. The revised form will not be used until the AFIDA online web portal is fully functional and ready for filing use. Note that the revised FSA-153 form is not intended to be used as a paper version; rather, the questions on the revised FSA-153 form will only exist via the new, online web portal. Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

Additionally, we will not be able to upload the approximately 50,000 existing filings into the new electronic submission and retention system as funding has not been made available to do so. As a result, the existing form will be used for amendments to those existing legacy filings (such as dispositions). The AFIDA online web portal will incorporate the revised form for all new acquisitions.

William Beam,
Administrator, Farm Service Agency.

[FR Doc. 2025-09831 Filed 5-29-25; 8:45 am]

BILLING CODE 3411-EP-P